FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than July 28, 2000.

A. Federal Reserve Bank of New York (Betsy Buttrill White, Senior Vice President) 33 Liberty Street, New York, New York 10045-0001:

1. UniCredito Italiano, S.p.A., Milan, Italy; to acquire The Pioneer Group, Inc., Boston, Massachusetts, and thereby engage in acting as investment and financial adviser to any person, pursuant to § 225.28(b)(6) of Regulation Y; acting as investment adviser to variable annuities investment fund, see Banque Nationale de Paris, 89 Fed. Res. Bull. 638 (1994); providing administrative services to mutual funds, see Lloyds TSB Group, plc, 84 Fed. Res. Bull. 116 (1998); acting directly or indirectly as general partner or, managing member in, or otherwise controlling investment funds that invest in up to 5 percent of the voting securities and 25 percent of the nonvoting equity of companies under section 4(c)7 of the Bank Holding Company Act and The Dresdner Bank, A.G., 84 Fed. Res. Bull. 361, (1998), and The Bessemer Group, 82 Fed. Res. Bull. 569 (1996); acting as a commodity pool operator, see The Dresdner Bank, A.G., 84 Fed. Res. Bull. 361, (1998), and The Bessemer Group, 82 Fed. Res. Bull. 569 (1996); and conducting agency transactional services for customer investments, pursuant to § 225.28(b)(7) of Regulation Y.

Board of Governors of the Federal Reserve System, July 10, 2000.
Robert deV. Frierson,
Associate Secretary of the Board.

[FR Doc. 00-17823 Filed 7-13-00; 8:45 am]

BILLING CODE 6210-01-P